SECURITIES AND EXCHANGE COMMISSION

[Release No. 34-90409; File No. SR-NYSEArca-2020-95]

Self-Regulatory Organizations; NYSE Arca, Inc.; Notice of Filing and Immediate Effectiveness of Proposed Rule Change Amending the Fees for NYSE Arca BBO and NYSE Arca Trades by Modifying the Application of the Access Fee and Amending the Fees for NYSE Arca Trades by Adopting a Waiver Applicable to the Redistribution Fee

November 12, 2020.

Correction

In Notice document 2020-25391, appearing on pages 73522-73533, in the issue of Wednesday, November 18, 2020, make the following correction:

On page 73533, in the first column, in the thirty-eighth line, the entry “December 9, 2021” is corrected to read “December 9, 2020”.

[FR Doc. C1-2020-25391 Filed 11-23-20; 8:45 am]

BILLING CODE 1301-00-D